DEPARTMENT OF HEALTH AND HUMAN SERVICES

Administration for Children and Families

[CFDA Number: 93.598]

Announcement of the Award of a Single-Source Program Expansion Supplement Grant to the U.S. Committee for Refugees and Immigrants in Arlington, VA

AGENCY: Office of Refugee Resettlement, ACF, HHS.

ACTION: Announcement of the award of a single-source program expansion supplement to the U.S. Committee for Refugees and Immigrants (USCRI) to support expanded services to foreign trafficking victims, potential trafficking victims, and certain family members.

SUMMARY: The Administration for Children and Families (ACF), Office of Refugee Resettlement (ORR) announces the award of a single-source program expansion supplement grant to U.S. Committee for Refugees and Immigrants in Arlington, Virginia for a total of $361,286.

The supplemental funding will ensure sufficient that clients' essential needs, such as housing, transportation, communication, food, and medical care will be met.

DATES: The period of support under these supplements is June 26, 2014 through September 29, 2014.

FOR FURTHER INFORMATION CONTACT: Maggie Wynne, Director, Division of Anti-Trafficking in Persons, Office of Refugee Resettlement, 901 D Street SW., Washington, DC 20447, Telephone (202) 401-4664. Email: maggie.wynne@acf.hhs.gov

SUPPLEMENTARY INFORMATION: The National Human Trafficking Victim Assistance Program (NHTVAP) provides funding for comprehensive case management services on a per capita basis. The NHTVAP grantees help victims gain access to housing, employability services, mental health screening and therapy, medical care, and some legal services, enabling them to live free of violence and exploitation. During FY 2014, the current grantee, U.S. Committee for Refugees and Immigrants (USCRI), served more clients than it had originally planned for in its budget. Without the additional funding, significant cuts in services to clients would be made and the enrollment of new clients will be limited. With the supplemental funding, USCRI will be able to ensure that all of the clients' essential needs will be met.

Statutory Authority: Trafficking Victims Protection Act of 2000 (TVPA), as amended, Section 107(b)(1)(B), 22 U.S.C. 7105(b)(1)(B), authorizes funding for benefits and services to foreign victims of severe forms of trafficking in persons in the United States, potential victims of trafficking seeking HHS Certification, and certain family members.

Melody Wayland,
Senior Grants Policy Specialist, Office of Administration/Division of Grants Policy.

[FR Doc. 2014-20326 Filed 8-26-14; 8:45 am]

BILLING CODE 4184-47-P